DEPARTMENT OF ENERGY

Federal Energy Regulatory Commission

[Project No. 4639-033]

Ampersand Christine Falls Hydro, LLC; Notice Soliciting Scoping Comments

Take notice that the following hydroelectric application has been filed with the Commission and is available for public inspection.

a. Type of Application: Subsequent Minor License.

b. Project No.: 4639-033.

c. Date filed: September 29, 2021.

d. Applicant: Ampersand Christine Falls Hydro, LLC (Ampersand).

e. Name of Project: Christine Falls Hydroelectric Project (Christine Falls Project or project).

f. Location: On the Sacandaga River near the Village of Speculator, Hamilton County, New York. The project does not occupy any federal land.

g. Filed Pursuant to: Federal Power Act, 16 U.S.C. 791(a)-825(r).

h. Applicant Contacts: Mr. Sayad Moudachirou, Licensing Manager, Ampersand Christine Falls Hydro LLC, 717 Atlantic Avenue, Suite 1A, Boston, MA 02111, Phone: 617-933-7206, Email: sayad@ampersandenergy.com; and Mr. Jason Huang, Asset Manager, Ampersand Christine Falls Hydro LLC, 717 Atlantic Avenue, Suite 1A, Boston, MA 02111, Phone: 773-919-0923, Email: jasonh@ampersandenergy.com.

i. FERC Contact: Andy Bernick at (202) 502-8660, or andrew.bernick@ferc.gov

j. Deadline for filing scoping comments: April 23, 2023.

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy via U.S. Postal Service to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Christine Falls Hydroelectric Project (P-4639-033).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. The Christine Falls Project consists of the following existing facilities: (1) a 15-foot-high, 152.6-foot-long concrete gravity dam (includes both abutments), with 3-foot-high wooden flashboards installed along the crest of the 135-foot-long spillway; (2) a reservoir with a surface area of 1.1 acres and a storage capacity of 4-acre feet at a normal water surface elevation of 1,699.7 feet National Geodetic Vertical Datum of 1929 (NGVD29); (3) an intake structure; (4) a 613-foot-long steel penstock with a diameter of 6 feet that bifurcates into 3-foot-diameter, 45-foot-long and 4-foot-diameter, 32-foot-long penstocks; (5) a brick and concrete powerhouse containing two turbine-generator units (i.e., one 275-kilowatt (kW) unit and one 575-kW unit) with a total capacity of 850 kW; (7) a tailrace with a depth of 21 feet; (8) a 610-foot-long bypassed reach; (9) a 185-foot-long underground transmission line connecting the generating units to a 1,000-kilovolt-ampere step-up transformer; (10) a 9,315-foot-long, 4.16/13.2-kilovolt underground transmission line from the transformer to a point of interconnection; and (11) appurtenant facilities.

The Christine Falls Project is operated in a run-of-river mode, with a minimum flow of 25 cubic feet per second (cfs) into the bypassed reach during the months of March, April, and May, and a minimum flow of 10 cfs during the remainder of the year. The project is operated to maintain a normal water surface elevation of 1,699.7 feet NGVD29 with 3-foot-high wooden flashboards in place and has an average annual generation of 2,478 megawatt-hours.

Ampersand proposes to operate the project in a run-of-river mode with an impoundment level fluctuation limit of 3 inches from the dam crest or flashboards when in place (i.e., from a normal water surface elevation of 1,699.68 feet NGVD29 with flashboards in place, and 1,696.68 feet NGVD29 without flashboards in place). As described in its October 11, 2022, settlement agreement with the U.S. Fish and Wildlife Service, New York State Department of Environmental Conservation, American Whitewater, and the New York State Council of Trout Unlimited, Ampersand proposes the following changes to project operation and facilities: (1) providing two seasonal minimum flow regimes over the spillway and through the bypass gate within 3 years of license issuance: (a) a 15-cfs minimum flow or inflow, whichever is less, from June 1 to October 31, and (b) a 35-cfs minimum flow or inflow, whichever is less, from November 1 to May 31; (2) installing trash racks with 1-inch clear spacing or the equivalent (e.g., an overlay-type system) whereby approach velocities are less than or equal to 2 feet per second, as measured 1 foot in front of the trash racks; and (3) installing and maintaining a year-round downstream fish passage structure.

Ampersand also proposes to: (1) remove the existing 9,315-foot-long transmission line from the project, stating that the line also provides power to the project from the grid and thus should not be considered a primary transmission line; and (2) enhance recreational opportunities by sharing data on daily river conditions, constructing a parking area for two vehicles, and collecting and hauling trash.

m. In addition to publishing the full text of this notice in the Federal Register, the Commission provides all interested persons an opportunity to view and/or print the contents of this notice, as well as other documents in the proceeding (e.g., scoping document) via the internet through the Commission's Home Page (http://www.ferc.gov) using the “eLibrary” link. Enter the docket number, excluding the last three digits, in the docket number field to access the document (P-4639). For assistance, contact FERC at FERCOnlineSupport@ferc.gov or call toll-free, (866) 208-3676 or TYY, (202) 502-8659. At this time, the Commission has suspended access to the Commission's Public Reference Room due to the proclamation declaring a National Emergency concerning the Novel Coronavirus Disease (COVID-19), issued by the President on March 13, 2020. For assistance, contact FERC at FERCOnlineSupport@ferc.gov or call toll free, (886) 208-3676 or TTY (202) 502-8659.

n. You may also register online at http://www.ferc.gov/docs-filing/esubscription.asp to be notified via email of new filings and issuances related to this or other pending projects. For assistance, contact FERC Online Support.

o. Scoping Process:

Commission staff will prepare either an environmental assessment (EA) or an environmental impact statement (EIS) that describes and evaluates the probable effects, if any, of the licensee's proposed action and alternatives. The EA or EIS will consider environmental impacts and reasonable alternatives to the proposed action. The Commission's scoping process will help determine the required level of analysis and satisfy the National Environmental Policy Act (NEPA) scoping requirements, irrespective of whether the Commission prepares an EA or an EIS. At this time, we do not anticipate holding on-site scoping meetings. Instead, we are soliciting written comments and suggestions on the preliminary list of issues and alternatives to be addressed in the NEPA document, as described in scoping document 1 (SD1), issued March 24, 2023. Commission staff may hold a public environmental site visit to examine project facilities and lands within the project boundary at a later date.

Copies of SD1 outlining the subject areas to be addressed in the NEPA document were distributed to the parties on the Commission's mailing list and the applicant's distribution list. Copies of SD1 may be viewed on the web at http://www.ferc.gov using the “eLibrary” link. Enter the docket number excluding the last three digits in the docket number field to access the document. For assistance, call 1-866-208-3676 or for TTY, (202) 502-8659.

Dated: March 24, 2023.
Debbie-Anne A. Reese,
Deputy Secretary.

[FR Doc. 2023-06603 Filed 3-29-23; 8:45 am]

BILLING CODE 6717-01-P